DEPARTMENT OF ENERGY

Federal Energy Regulatory Commission

[Project No. 13569-001-NV]

Southern Nevada Water Authority; Notice of Availability of Environmental Assessment

August 19, 2010.

In accordance with the National Environmental Policy Act of 1969 and the Federal Energy Regulatory Commission's regulations, 18 CFR Part 380 (Order No. 486, 52 FR 47897), the Office of Energy Projects has reviewed the application for an original license to construct the Arrow Canyon Conduit Energy Recovery Hydroturbine Project, and has prepared an environmental assessment (EA). The proposed 500-kilowatt project would operate using treated groundwater from the applicant's Coyote Spring Valley Well and Moapa Transmission System Project, a 24-inch diameter pipeline in Clark County, near the town of Glendale, Nevada. The project occupies 1.70 acres of lands administered by the Bureau of Land Management.

The EA includes staff's analysis of the potential environmental impacts of the project and concludes that licensing the project would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/esubscribenow.htm to be notified via email of new filings and issuances related to this or other pending projects. For assistance, contact FERC Online Support at FERCOnlineSupport@ferc.gov or toll-free at 1-866-208-3676, or for TTY, (202) 502-8659.

Please contact Jim Fargo by telephone at (202) 502-6095 or by e-mail at james.fargo@ferc.gov if you have any questions.

Kimberly D. Bose,
Secretary.

[FR Doc. 2010-21169 Filed 8-25-10; 8:45 am]

BILLING CODE 6717-01-P